Title 3—

The President

Proclamation 10918 of April 17, 2025

Unleashing American Commercial Fishing in the Pacific

By the President of the United States of America

A Proclamation

The Pacific Remote Islands Marine National Monument (PRIMNM) was established by Proclamation 8336 of January 6, 2009 (Establishment of the Pacific Remote Islands Marine National Monument), and then further expanded by Proclamation 9173 of September 25, 2014 (Pacific Remote Islands Marine National Monument Expansion). Under these monument proclamations, over 400,000 square miles in the Pacific Ocean were appropriated and withdrawn from all forms of entry, location, selection, sale, leasing, or other disposition under the public land laws for care and management by the Federal Government.

The PRIMNM was established to protect and preserve the lands and marine environment around Wake, Baker, Howland, and Jarvis Islands; Johnston and Palmyra Atolls; Kingman Reef; and the historic and scientific objects therein. These objects include fish, birds, marine mammals, coral, and the general biodiversity of the ecosystems encompassed by the PRIMNM.

As part of the management of the PRIMNM, commercial fishing is currently prohibited within its boundaries. As explained herein, following further consideration of the nature of the objects identified in Proclamations 8336 and 9173 and the protection of those objects already provided by relevant law, I find that appropriately managed commercial fishing would not put the objects of scientific and historic interest that the PRIMNM protects at risk.

With respect to fish in particular, fisheries in the region are effectively managed by the National Marine Fisheries Service and the Western Pacific Regional Fishery Management Council. Management of the PRIMNM is doing little to guard fish populations against overfishing as tunas and other pelagic species found within the boundaries of the PRIMNM are migratory in nature, and do not permanently reside within the PRIMNM.

As a result of the prohibitions on commercial fishing, American fishing fleets have lost access to nearly half of the United States' Exclusive Economic Zone in the Pacific Islands. This has driven American fishermen to fish further offshore in international waters to compete against poorly regulated and highly subsidized foreign fleets. This disadvantages honest United States commercial fishermen and is detrimental for United States territories like American Samoa, whose private sector economy is over 80 percent dependent on the fishing industry.

Proclamations 8336 and 9173 do not list recreational fishing as a threat to local fish populations within the PRIMNM. A host of Federal protections exist under current laws and agency management designations to protect the area's natural resources, vulnerable marine species, and unique habitats, such as coral and seamount ecosystems.

These laws include the Magnuson-Stevens Fishery Conservation and Management Act (16 U.S.C. 1801 et seq.), the Endangered Species Act of 1973 (Endangered Species Act) (16 U.S.C. 1531 et seq.), the Migratory Bird Treaty Act (16 U.S.C. 703-712), the National Wildlife Refuge System Administration Act of 1966 (16 U.S.C. 668dd-668ee), the Refuge Recreation Act (16 U.S.C. 460k et seq.), the Marine Mammal Protection Act (16 U.S.C. 1361 et seq.), the Clean Water Act (33 U.S.C. 1251 et seq.), the Oil Pollution Act of 1990 (Oil Pollution Act) (33 U.S.C. 2701 et seq.), and Title I of the Marine Protection, Research, and Sanctuaries Act (Ocean Dumping Act), 33 U.S.C. 1401 et seq. For example, the Endangered Species Act generally prohibits the taking of listed fish and wildlife species, and also generally ensures that Federal actions, including fisheries management, are not likely to jeopardize the continued existence of any such species nor adversely modify designated critical habitats. Numerous other statutes, including the Clean Water Act, the Oil Pollution Act, and the Ocean Dumping Act, address both land-based and ocean-based sources of pollution and help ensure that water quality conditions support the conservation values of the Pacific Remote Island ecosystems.

Therefore, I find that appropriately managed commercial fishing would not put objects of scientific and historic interest within the PRIMNM at risk.

After further consideration of the nature of the objects identified in Proclamations 8336 and 9173 and the protection of those objects already provided by the Magnuson-Stevens Fishery Conservation and Management Act and other relevant laws, I find that a prohibition on commercial fishing is not, at this time, necessary for the proper care and management of the PRIMNM or the objects of historic or scientific interest therein.

NOW, THEREFORE, I, DONALD J. TRUMP, President of the United States of America, by the authority vested in me by the Constitution and the laws of the United States, including section 320301 of title 54, United States Code (Antiquities Act), hereby proclaim that:

(a) All language under the section entitled “Management of the Marine National Monument” in Proclamation 9173 is deleted and replaced with the following:

“Nothing in this proclamation shall change the management of the Pacific Remote Islands Marine National Monument as specified in Proclamation 8336. The Secretary of the Interior, in consultation with the Secretary of Commerce, shall have primary responsibility for management of the Monument Expansion pursuant to applicable legal authorities. The Secretary of Commerce, through the Administrator of the National Oceanic and Atmospheric Administration, and in consultation with the Secretary of the Interior, shall within the Monument Expansion have primary responsibility with respect to fishery-related activities regulated pursuant to the Magnuson-Stevens Fishery Conservation and Management Act (16 U.S.C. 1801 et seq.), and any other applicable legal authorities. The Secretary of Commerce and the Secretary of the Interior shall not allow or permit any appropriation, injury, destruction, or removal of any object of the Monument Expansion except as provided for by this proclamation as modified by the Proclamation of April 17, 2025 (Unleashing American Commercial Fishing in the Pacific).

Between 50 to 200 nautical miles from the landward boundaries of the Monument, the Secretary of Commerce shall not prohibit commercial fishing within the boundaries of the Monument and the Monument Expansion in those areas where the Monument and Monument Expansion is coterminous with the Exclusive Economic Zone of the United States. The implementation of any regulation of commercial fishing within the Monument and the Monument Expansion shall be done in coordination with the Secretary of Defense. Only United States flagged vessels shall be allowed to commercially fish within the boundaries of the Monument and the Monument Expansion, except that permits may be issued to foreign flagged vessels to transship fish harvested by United States fishermen.

The Secretary of Commerce and the Secretary of the Interior shall take appropriate action pursuant to their respective authorities under the Antiquities Act; the Magnuson-Stevens Fishery Conservation and Management Act; and such other authorities as may be available to implement this proclamation, to regulate fisheries, and to ensure proper care and management of the Monument Expansion.

The United States shall continue to preserve the freedom of the seas (i.e., all of the rights, freedoms, and lawful uses of the sea recognized in international law and enjoyed by all nations, including the conduct of military activities, exercises, and surveys in or over the Exclusive Economic Zone of the United States), and to protect the training, readiness, and global mobility of the United States Armed Forces as United States national interests that are essential to the peace and prosperity of civilized nations.

The Secretary of Defense shall continue to manage Wake Island and Johnston Atoll as specified in Proclamation 8336.”.

(b) The Secretary of Commerce, through the Administrator of the National Oceanic and Atmospheric Administration, shall expeditiously publish new proposed rules in the Federal Register to amend or repeal all burdensome regulations that restrict commercial fishing in the PRIMNM.

Nothing in this proclamation shall be construed to revoke, modify, or affect any withdrawal, reservation, or appropriation, other than the one created by Proclamations 8336 and 9173.

Nothing in this proclamation shall change the management of the areas designated and reserved by Proclamations 8336 and 9173, except as explicitly provided in this proclamation.

If any provision of this proclamation, including its application to a particular parcel of land, is held to be invalid, the remainder of this proclamation and its application to other parcels of land shall not be affected thereby.

IN WITNESS WHEREOF, I have hereunto set my hand this seventeenth day of April, in the year of our Lord two thousand twenty-five, and of the Independence of the United States of America the two hundred and forty-ninth.

[FR Doc. 2025-07060

Filed 4-21-25; 11:15 am]

Billing code 3395-F4-P